DEPARTMENT OF ENERGY

Federal Energy Regulatory Commission

Combined Notice of Filings

Take notice that the Commission has received the following Natural Gas Pipeline Rate and Refund Report filings:

Filings Instituting Proceedings

Docket Numbers: RP19-1002-001.

Applicants: Crossroads Pipeline Company.

Description: Compliance filing NAESB 3.1 Compliance to be effective 8/1/2019.

Filed Date: 8/16/19.

Accession Number: 20190816-5078.

Comments Due: 5 p.m. ET 8/28/19.

Docket Numbers: RP19-1015-001.

Applicants: Columbia Gas Transmission, LLC.

Description: Compliance filing NAESB 3.1 Compliance to be effective 8/1/2019.

Filed Date: 8/16/19.

Accession Number: 20190816-5077.

Comments Due: 5 p.m. ET 8/28/19.

Docket Numbers: RP19-1071-001.

Applicants: Portland General Electric Company.

Description: Compliance filing NAESB V3.1 Standards Compliance Refile to be effective 8/1/2019.

Filed Date: 8/16/19.

Accession Number: 20190816-5153.

Comments Due: 5 p.m. ET 8/28/19.

Docket Numbers: RP19-1081-001.

Applicants: Bluewater Gas Storage, LLC.

Description: Compliance filing Order No. 587-Y Compliance Filing to be effective 8/1/2019.

Filed Date: 8/16/19.

Accession Number: 20190816-5037.

Comments Due: 5 p.m. ET 8/28/19.

Docket Numbers: RP19-1090-002.

Applicants: American Midstream (AlaTenn), LLC.

Description: Compliance filing Compliance to 724 to be effective 8/1/2019.

Filed Date: 8/16/19.

Accession Number: 20190816-5012.

Comments Due: 5 p.m. ET 8/28/19.

Docket Numbers: RP19-1091-003.

Applicants: American Midstream (Midla), LLC.

Description: Compliance filing Compliance to 10008 to be effective 8/1/2019.

Filed Date: 8/16/19.

Accession Number: 20190816-5013.

Comments Due: 5 p.m. ET 8/28/19.

Docket Numbers: RP19-1092-002.

Applicants: Destin Pipeline Company, L.L.C.

Description: Compliance filing Compliance to 113026 to be effective 8/1/2019.

Filed Date: 8/16/19.

Accession Number: 20190816-5014.

Comments Due: 5 p.m. ET 8/28/19.

Docket Numbers: RP19-1093-002.

Applicants: High Point Gas Transmission, LLC.

Description: Compliance filing Compliance to 110521 to be effective 8/1/2019.

Filed Date: 8/16/19.

Accession Number: 20190816-5189.

Comments Due: 5 p.m. ET 8/28/19.

Docket Numbers: RP19-1094-002.

Applicants: Trans-Union Interstate Pipeline, L.P.

Description: Compliance filing Compliance to 713 to be effective 8/1/2019.

Filed Date: 8/16/19.

Accession Number: 20190816-5018.

Comments Due: 5 p.m. ET 8/28/19.

Docket Numbers: RP19-1477-000.

Applicants: Texas Eastern Transmission, LP.

Description: § 4(d) Rate Filing: Cleanup to Remove NC Agreement K870271 to be effective 9/16/2019.

Filed Date: 8/16/19.

Accession Number: 20190816-5002.

Comments Due: 5 p.m. ET 8/28/19.

Docket Numbers: RP19-898-001.

Applicants: Greylock Pipeline, LLC.

Description: Compliance filing Compliance to 207 to be effective 8/1/2019.

Filed Date: 8/16/19.

Accession Number: 20190816-5015.

Comments Due: 5 p.m. ET 8/28/19.

Docket Numbers: RP19-908-001.

Applicants: High Island Offshore System, L.L.C.

Description: Compliance filing Order No. 587-Y Compliance Filing Part 2 to be effective 8/1/2019.

Filed Date: 8/16/19.

Accession Number: 20190816-5020.

Comments Due: 5 p.m. ET 8/28/19.

Docket Numbers: RP19-927-001.

Applicants: Bison Pipeline LLC.

Description: Compliance filing NAESB 3.1 Compliance Filing to be effective 8/1/2019.

Filed Date: 8/16/19.

Accession Number: 20190816-5070.

Comments Due: 5 p.m. ET 8/28/19.

Docket Numbers: RP19-932-001.

Applicants: Northern Border Pipeline Company.

Description: Compliance filing NAESB 3.1 Compliance to be effective 8/1/2019.

Filed Date: 8/16/19.

Accession Number: 20190816-5074.

Comments Due: 5 p.m. ET 8/28/19.

Docket Numbers: RP19-941-001.

Applicants: Gas Transmission Northwest LLC.

Description: Compliance filing Compliance to Docket No. RP19-941-000 to be effective 8/1/2019.

Filed Date: 8/16/19.

Accession Number: 20190816-5071.

Comments Due: 5 p.m. ET 8/28/19.

Docket Numbers: RP15-1158-000.

Applicants: Gulf South Pipeline Company, LP.

Description: Report Filing: FTS-A Activity Report in compliance.

Filed Date: 8/19/19.

Accession Number: 20190819-5045.

Comments Due: 5 p.m. ET 9/3/19.

Docket Numbers: RP19-1041-001.

Applicants: B-R Pipeline Company.

Description: Compliance filing Order No. 587-Y Second Compliance Filing to be effective 8/1/2019.

Filed Date: 8/19/19.

Accession Number: 20190819-5047.

Comments Due: 5 p.m. ET 9/3/19.

Docket Numbers: RP19-1042-001.

Applicants: USG Pipeline Company, LLC.

Description: Compliance filing Order No. 587-Y Second Complaince Filing to be effective 8/1/2019.

Filed Date: 8/19/19.

Accession Number: 20190819-5046.

Comments Due: 5 p.m. ET 9/3/19.

Docket Numbers: RP19-1044-002.

Applicants: Cheniere Corpus Christi Pipeline, LP.

Description: Compliance filing NAESB 3.1 Compliance—Extension of Time to be effective 8/1/2019.

Filed Date: 8/19/19.

Accession Number: 20190819-5001.

Comments Due: 5 p.m. ET 9/3/19.

Docket Numbers: RP19-1045-002.

Applicants: Cheniere Creole Trail Pipeline, L.P.

Description: Compliance filing NAESB 3.1—Extension of Time to be effective 8/1/2019.

Filed Date: 8/19/19.

Accession Number: 20190819-5000.

Comments Due: 5 p.m. ET 9/3/19.

Docket Numbers: RP19-1213-001.

Applicants: Total Peaking Services, L.L.C.

Description: Compliance filing TPS Order No. 587-Y Compliance Filing Changes Update to be effective 8/1/2019.

Filed Date: 8/19/19.

Accession Number: 20190819-5042.

Comments Due: 5 p.m. ET 9/3/19.

Docket Numbers: RP19-1478-000.

Applicants: Stingray Pipeline Company, L.L.C.

Description: § 4(d) Rate Filing: Stingray Gas Quality Filing to be effective 9/18/2019.

Filed Date: 8/19/19.

Accession Number: 20190819-5027.

Comments Due: 5 p.m. ET 9/3/19.

Docket Numbers: RP19-926-002.

Applicants: Rendezvous Pipeline Company, LLC.

Description: Compliance filing Revised NAESB Compliance Filing—Order No. 587-Y to be effective 8/1/2019.

Filed Date: 8/19/19.

Accession Number: 20190819-5120.

Comments Due: 5 p.m. ET 9/3/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 20, 2019.
Kimberly D. Bose,
Secretary.

[FR Doc. 2019-18710 Filed 8-28-19; 8:45 am]

BILLING CODE 6717-01-P